ENVIRONMENTAL PROTECTION AGENCY

[IN149-1; FRL-7428-8]

Notice of Resolution of Notice of Deficiency for Clean Air Act Operating Permit Program in Indiana

AGENCY: Environmental Protection Agency (EPA).

ACTION: Notice.

SUMMARY: This notice announces that our recent approvals of rule changes made by the State of Indiana (published at 67 FR 34844 and 67 FR 52615) have, collectively, resolved all of the issues listed in the December 11, 2001 (66 FR 64039) notice of program deficiency (NOD) for the Indiana title V operating permit program. As a result, we will not apply section 179(b) sanctions pursuant to 40 CFR 70.10(b)(3) within 18 months of the date of the finding of the deficiency. In addition, we will not promulgate, administer, and enforce a whole or partial program pursuant to 40 CFR 70.10(b)(4) within 2 years of the date of finding of deficiency.

DATES: The effective dates of our approvals for Indiana's NOD corrections were July 15, 2002, and October 15, 2002.

ADDRESSES: The documents relevant to the above action are available for public inspection during normal business hours at the following address: EPA, Region 5, 77 West Jackson Boulevard (AR-18J), Chicago, Illinois 60604. To arrange viewing of these documents, call Sam Portanova at (312) 886-3189.

FOR FURTHER INFORMATION CONTACT: Sam Portanova, EPA, Region 5, 77 W. Jackson Boulevard (AR-18J), Chicago, Illinois 60604.

SUPPLEMENTARY INFORMATION: This supplemental information is organized as follows:

A. What Action Are We Taking?

B. What Is The Background Information?

C. What Did We Determine?

A. What Action Are We Taking?

We are notifying the public that our recent approvals of rule changes made by the State of Indiana have, collectively, resolved all of the title V program deficiencies identified in the December 11, 2001, NOD and that the NOD is no longer in effect.

B. What Is the Background Information?

Indiana submitted revisions to its title V program on February 7, 2002, to correct five of the six program deficiency issues identified by EPA in the NOD. Indiana submitted revisions to its permit regulations on March 5, 2002, to correct the remaining deficiency issue identified in the NOD.

C. What Did We Determine?

On May 16, 2002, we published a direct final approval (67 FR 34844) of the title V program revisions that Indiana submitted on February 7, 2002. We did not receive any comments on this direct final notice and the approval became effective on July 15, 2002. The period for judicial review of this approval expired on July 15, 2002. On August 13, 2002, we published a direct final approval (67 FR 52615) of permit regulation revisions that Indiana submitted on March 5, 2002. We did not receive any comments on this direct final notice and the approval became effective on October 15, 2002. The period for judicial review of this approval expired on October 15, 2002. Each of these approvals announced our finding that certain deficiencies identified in the NOD had been resolved. This notice announces that, collectively, the two approvals resolve all deficiencies identified in the NOD.

Dated: November 21, 2002.
Bharat Mathur,
Acting Regional Administrator, Region 5.

[FR Doc. 02-32565 Filed 12-24-02; 8:45 am]

BILLING CODE 6560-50-P